ENVIRONMENTAL PROTECTION AGENCY

[EPA-HQ-OPP-2007-0936; FRL-8128-1]

Notice of Filing of Pesticide Petitions for Residues of Pesticide Chemicals in or on Various Commodities

AGENCY: Environmental Protection Agency (EPA).

ACTION: Notice.

SUMMARY: This notice announces the initial filing of pesticide petitions proposing the establishment or modification of regulations for residues of pesticide chemicals in or on various commodities.

DATES: Comments must be received on or before June 8, 2007.

ADDRESSES: Submit your comments, identified by docket identification (ID) number and the pesticide petition number (PP) of interest, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to the assigned docket ID number and the pesticide petition number of interest. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy. Publicly available docket materials are available electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The person listed at the end of the pesticide petition summary of interest.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Docket ID Numbers

When submitting comments, please use the docket ID number and the pesticide petition number of interest, as shown in the table.

PP Number | Docket ID Number
PP 6E7047 and 6E7048 | EPA-HQ-OPP-2007-0189
PP 6E7148 | EPA-HQ-OPP-2007-0310
PP 7E7196 | EPA-HQ-OPP-2007-0313
PP 0E6209 | EPA-HQ-OPP-2007-0325
PP 7E7182 | EPA-HQ-OPP-2007-0330
PP 7E7195 | EPA-HQ-OPP-2007-0331
PP 7E7194 | EPA-HQ-OPP-2007-0335
PP 7F7200 | EPA-HQ-OPP-2007-0337
PP 7F7191 | EPA-HQ-OPP-2007-0349

III. What Action is the Agency Taking?

EPA is printing notice of the filing of pesticide petitions received under section 408 of the Federal Food, Drug, and Cosmetic Act (FFDCA), 21 U.S.C. 346a, proposing the establishment or modification of regulations in 40 CFR part 180 for residues of pesticide chemicals in or on various food commodities. EPA has determined that the pesticide petitions described in this notice contain data or information regarding the elements set forth in FFDCA section 408(d)(2); however, EPA has not fully evaluated the sufficiency of the submitted data at this time or whether the data support granting of the pesticide petitions. Additional data may be needed before EPA rules on these pesticide petitions.

Pursuant to 40 CFR 180.7(f), a summary of each of the petitions included in this notice, prepared by the petitioner, is included in a docket EPA has created for each rulemaking. The docket for each of the petitions is available on-line at http://www.regulations.gov.

New Tolerances

1. PP 6E7047 and 6E7048. (Docket ID number EPA-HQ-OPP-2007-0189). Interregional Research Project Number 4 (IR-4), 500 College Road East, Suite 201 W, Princeton, NJ 08540-6635, proposes to establish a tolerance for the combined residues of the herbicide propyzamide (pronamide) and its metabolite containing the 3,5-dichlorobenzoyl moiety and calculated as 3,5-dichloro-N-(1,1-dimethyl-2-propynyl) benzamide in or on food commodities in PP 6E7047: Chicory roots at 0.2 parts per million (ppm); chicory tops at 2.0 ppm; endive, Belgium at 2.0 ppm; and dandelion, leaves at 2.0 ppm; and in PP 6E7048: Berry group 13 at 0.05 ppm. Adequate enforcement methodology, gas chromatography using electron capture detection (GC/ECD), is available to enforce the tolerance expression. This method is published in the Pesticide Analytical Manual II (PAM II), as method I. Contact: Sidney Jackson, telephone number: (703) 305-7610; e-mail address: jackson.sidney@epa.gov.

2. PP 6E7148. (Docket ID number EPA-HQ-OPP-2007-0310). Interregional Research Project Number 4 (IR-4), 500 College Road East, Suite 201 W, Princeton, NJ 08540-6635, proposes to establish a tolerance for residues of the insecticide spinosad which is a fermentation product of Saccharopolyspora spinosa. The product consists of two related active ingredients: Spinosyn A (Factor A; CAS# 131929-60-7) and Spinosyn D (Factor D; CAS# 131929-63-0). Typically, the two factors are present at an 85:15 (A:D) ratio in or on food commodities: Spice crop subgroup 19B, except black pepper at 1.7 ppm; pineapple at 0.02 ppm; and pineapple process residue at 0.08 ppm. There is a practical method, liquid chromatography mass spectrometry accelerated climate prediction initiative (LC/MS/ACPI), for detecting and measuring levels of spinosad in or on food with a limit of detection (0.002 ppm) that allows monitoring of food with residues at or above the level set for these tolerances. The method has undergone successful EPA laboratory validation. Contact: Sidney Jackson, telephone number: (703) 305-7610; e-mail address: jackson.sidney@epa.gov.

3. PP 7E7196. (Docket ID number EPA-HQ-OPP-2007-0313). Interregional Research Project Number 4 (IR-4), 500 College Road East, Suite 201 W, Princeton, NJ 08540-6635, proposes to establish a tolerance for residues of the herbicide glufosinate-ammonium and its metabolites expressed as butanoic acid, 2-amino-4-(hydroxymethyl phosphinyl)-, monoammonium salt, 2-acetamido-4-methylphosphinico-butanoic acid and 3-methylphosphinico-propionic acid, expressed as glufosinate free acid equivalents in or on the food commodity pistachio at 0.1 ppm. The enforcement analytical method utilizes GC for detecting and measuring levels of glufosinate-ammonium and metabolites with a general limit of quantification of 0.05 ppm. This method allows detection of residues at or above the proposed tolerances. Contact: Barbara Madden, telephone number: (703) 305-6463; e-mail address: madden.barbara@epa.gov.

4. PP 0E6209. (Docket ID number EPA-HQ-OPP-2007-0325). Interregional Research Project Number 4 (IR-4), 500 College Road East, Suite 201 W, Princeton, NJ 08540-6635, proposes to establish a tolerance for residues of the herbicide dicamba (3,6-dichloro-o-anisic acid) and its metabolite 3,6-dichloro-5-hydroxy-o-anisic in or on food commodities: Corn, sweet, kernel plus cob with husks removed at 0.04 ppm; Corn, sweet, forage at 0.50 ppm; and Corn, sweet stover at 0.50 ppm. BASF Corporation has provided suitable independently validated analytical methods for detecting and measuring levels of dicamba and its metabolites in or on food with a limit of detection that allows monitoring of food with residues at or above the levels described in these and the existing tolerances. Adequate methods are available in the PAM II for enforcement purposes. The analytical method involves extraction, partition, clean-up and detection of residues by GC/ECD. Contact: Barbara Madden, telephone number: (703) 305-6463; e-mail address: madden.barbara@epa.gov.

5. PP 7E7182. (Docket ID number EPA-HQ-OPP-2007-0330). Interregional Research Project Number 4 (IR-4), 500 College Road East, Suite 201 W, Princeton, NJ 08540-6635, proposes to establish a tolerance for residues of the insecticide/miticide hexythiazox (trans-5-(4-chlorophenyl)-N-cyclohexyl-4-methyl-2-oxothiazolidine-3-carboxamide) and its metabolites containing the (4-chlorophenyl)-4-methyl-2-oxo-3-thiazolidine moiety in or on food commodity potato at 0.02 ppm. A practical analytical method, high performance liquid chromatography (HPLC) with an ultraviolet detector, which detects and measures residues of hexythiazox and its metabolites as a common moiety, is available for enforcement purposes with a limit of detection that allows monitoring of food with residues at or above the levels set in these tolerances. Contact: Shaja R. Brothers, telephone number: (703) 308-3194; e-mail address: brothers.shaja@epa.gov.

6. PP 7E7195. (Docket ID number EPA-HQ-OPP-2007-0331). Interregional Research Project Number 4 (IR-4), 500 College Road East, Suite 201 W, Princeton, NJ 08540-6635, proposes to establish a tolerance for residues of the insecticide/miticide spiromesifen; butanoic acid, 3,3-dimethyl-, 2-oxo-3-(2,4,6-trimethylphenyl)-1-oxaspiro [4,4] non-3-en-4-yl ester, and its enol metabolite; 4-hydroxyl-3-(2,4,6-trimethylphenyl)-1-oxaspiro [4,4] non-3-en-2-one, calculated as parent compound equivalents in or on food commodities: Bean, edible, podded at 1.4 ppm; bean, succulent at 0.10 ppm; bean, dry at 0.02 ppm; and cowpea, forage at 35 ppm. Adequate analytical methodology using liquid chromatography tandem mass spectrometry (LC/MS/MS) detection is available for enforcement purposes. Contact: Shaja R. Brothers, telephone number: (703) 308-3194; e-mail address: brothers.shaja@epa.gov.

7. PP 7F7200. (Docket ID number EPA-HQ-OPP-2007-0337). Bayer CropScience, 2 T.W. Alexander Drive, P.O. 12014, Research Triangle Park, NC 27709, proposes to establish a tolerance for residues of the insecticide cyfluthrin; cyano (4-fluoro-3-phenoxyphenyl)methyl-3-(2,2-dichloroethenyl)-2,2-dimethyl-cyclopropanecarboxylate in or on food commodities: Grain, cereal group 15 (except rice) at 4.0 ppm; and grain, cereal, (forage, fodder, and straw), group 16 (except rice) at 7.0 ppm. Adequate analytical methodology using GC/EC detection is available for enforcement purposes. Contact: Olga Odiott, telephone number: (703) 308-9369; e-mail address: odiott.olga@epa.gov.

8. PP 7F7191. (Docket ID number EPA-HQ-OPP-2007-0349). Dow AgroSciences LLC, 9330 Zionsville Rd., Indianapolis, IN 46268-1053, proposes to establish a tolerance for residues of the insecticide spinosad in or on food commodities: Fish, shellfish, mollusks, and crustaceans at 4.0 ppm. There is a practical method LC/MS/ACPI for detecting and measuring levels of spinosad in or on food with a limit of detection (0.002 ppm) that allows monitoring of food with residues at or above the level set for these tolerances. The method had undergone successful EPA laboratory validation. Contact: Bonaventure Akinlosotu, telephone number: (703) 605-0653; e-mail address: akinlosotu.bonaventure@epa.gov.

Amendment to Existing Tolerances

1. PP 7E7195. (Docket ID number EPA-HQ-OPP-2007-0331). Interregional Research Project Number 4 (IR-4), 500 College Road East, Suite 201 W, Princeton, NJ 08540-6635, proposes to amend the tolerances in 40 CFR 180.607 by increasing the residues of the insecticide/miticide spiromesifen; butanoic acid, 3,3-dimethyl-, 2-oxo-3-(2,4,6-trimethylphenyl)-1-oxaspiro[4,4]non-3-en-4-yl ester, and its metabolites containing the enol; 4-hydroxyl-3-(2,4,6-trimethylphenyl)-1-oxaspiro[4,4]non-3-en-2-one; and 4-hydroxymethyl; 4-hydroxy-3-[4-(hydroxymethyl)-2,6-dimethylphenyl]-1-oxaspiro[4,4] non-3-en-2-one moieties, calculated as parent compound equivalents in or on the livestock commodities: Cattle, fat at 0.20 ppm; cattle, meat at 0.01 ppm; cattle, meat byproducts at 0.30 ppm; goat, fat at 0.20 ppm; goat, meat at 0.01 ppm; goat, meat byproducts at 0.30 ppm; hog, fat at 0.20 ppm; hog, meat at 0.01 ppm; hog, meat byproducts at 0.30 ppm; horse, fat at 0.20 ppm; horse, meat at 0.01 ppm; horse, meat byproducts at 0.30 ppm; sheep, fat at 0.20 ppm; sheep, meat at 0.01 ppm; sheep, meat byproducts at 0.30 ppm; and milk at 0.01 ppm. Adequate analytical methodology using LC/MS/MS detection is available for enforcement purposes. Contact: Shaja R. Brothers, telephone number: (703) 308-3194; e-mail address: brothers.shaja@epa.gov.

2. PP 7E7194. (Docket ID number EPA-HQ-OPP-2007-0335). Dow AgroSciences LLC, 9330 Zionsville Rd., Indianapolis, IN 46268-1053, proposes to amend the tolerances in 40 CFR 180.560 by amending the tolerance expression to establish the combined residues of cloquintocet-mexyl (acetic acid, [(5-chloro-8-quniolinyl)oxy]-,1-methylhexyl ester)(CAS # 99607-70-2) and its acid metabolite (5-chloro-8-quinlinoxyacetic acid) when used as an inert ingredient safener in pesticide formulations containing either the herbicide clodinafop-propargyl or pinoxaden in a 1:4 ratio of safener to active ingredient or as a safener in combination with the new active ingredient pyroxsulam in or on the food commodities: Wheat, grain at 0.1 ppm; wheat, forage at 0.1 ppm; wheat, hay at 0.1 ppm; and wheat, straw at 0.1 ppm. Dow AgroSciences LLC has submitted practical analytical methodology for detecting and measuring combined levels of cloquintocet-methyl and its acid metabolite (5-chloro-8-quinlinoxyacetic acid). The method is based upon acid hydrolysis extraction, which converts the parent and all conjugates to the acid metabolite. The acid metabolite is subject to commodity specific cleanup procedures and HPLC determination with triple stage quadruple mass spectrometry LC/MS/MS. The limit of quantitation (LOQ), as demonstrated by the lowest acceptable recovery samples, is 0.01 ppm for wheat, grain, forage, hay and straw. Contact: Tracy H. Ward, telephone number: (703) 308-9361; e-mail address: ward.tracyh@epa.gov.

List of Subjects

Environmental protection, Agricultural commodities, Feed additives, Food additives, Pesticides and pests, Reporting and recordkeeping requirements.

Dated: May 2, 2007.
Daniel J. Rosenblatt,
Acting Director, Registration Division, Office of Pesticide Programs.

[FR Doc. E7-8953 Filed 5-8-07; 8:45 am]

BILLING CODE 6560-50-S